DEPARTMENT OF THE TREASURY

Customs Service

Notice of Availability of Draft Environmental Assessment for Public Review Concerning Proposed Construction of Advanced Training Center at Harpers Ferry, WV

AGENCY: Customs Service, Treasury.

ACTION: General notice.

SUMMARY: The Customs Service is issuing this notice to announce the availability for public review and comment of a draft Environmental Assessment (EA) for the proposed construction of an advanced training center at Harpers Ferry, West Virginia. The training center will provide firearms and tactical training for Customs officers. The draft EA has been prepared in accordance with the National Environmental Policy Act of 1969 (NEPA), the Council on Environmental Quality Regulations for Implementing the NEPA, and Treasury Department requirements. Significant public comments will assist in the agency's evaluation of the proposed project and will be reflected in the final EA.

DATES: The draft Environmental Assessment will be available for public review from February 21, 2002, through March 25, 2002. Written comments must be received by March 25, 2002.

ADDRESSES: Written comments may be submitted to Mr. Lee Sullivan, Contracting Officer, c/o Harpers Ferry Project, U.S. Customs Service, 6026 Lakeside Blvd., Field Procurement Services Branch, Indianapolis, IN 46278. The draft Environmental Assessment will be available for public review at the following locations:

1. Bolivar-Harpers Ferry Library, 600 Polk St., Harpers Ferry, West Virginia 25425.

2. Old Charles Town Library, 200 East Washington St., Charles Town, West Virginia 25414.

3. U.S. Customs Service, National Place, Procurement Division, Room 1310, 1331 Pennsylvania Ave., NW., Washington, DC 20229.

FOR FURTHER INFORMATION CONTACT: Mr. Lee Sullivan at 317/298-1180 (ext. 1119) or at lee.a.sullivan@customs.treas.gov.

SUPPLEMENTARY INFORMATION:

Background

The Customs Service, pursuant to the National Environmental Policy Act of 1969 (NEPA), the Council on Environmental Quality Regulations for Implementing the National Environmental Policy Act (40 CFR parts 1500-1508), and Department of the Treasury Directive 75-02 (Department of the Treasury Environmental Quality Program), has prepared a draft Environmental Assessment (EA) related to the proposed construction of an advanced training center for Customs officers at Harpers Ferry, West Virginia. The proposed training center will expand Customs training capability and provide firearms and tactical training tailored to the unique roles, requirements, and environments in which Customs officers perform their mission.

The draft EA addresses various project alternatives, their potential impacts on the environment, and proposed methods to mitigate impacts. The draft EA document will be available for public review between February 21 and March 25, 2002, at the following locations: (1) Bolivar-Harpers Ferry Library, 600 Polk St., Harpers Ferry, West Virginia 25425; (2) Old Charles Town Library, 200 East Washington St., Charles Town, West Virginia 25414; and (3) U.S. Customs Service, National Place, Procurement Division (Mr. Jim Lieberman), Room 1310, 1331 Pennsylvania Ave., NW., Washington, DC 20229.

Significant comments received from the public and agencies during the review and comment period will be addressed in the final EA and included in an Appendix to the final EA. Should Customs determine, based on comments received and the information presented in the draft EA, that the design, new construction, and operation of the facility will not have a significant impact on the environment, Customs will prepare a Finding of No Significant Impact (FONSI) for publication in the Federal Register and in a newspaper in general circulation at the project location. Should Customs determine that significant environmental impacts exist due to the project, Customs will proceed with preparation of an Environmental Impact Statement as required under the NEPA, the Council on Environmental Quality Regulations for Implementing the NEPA, and the Department of the Treasury's environmental policies and procedures.

Dated: February 15, 2002.
Jo Ellen Cohen,
Acting Assistant Commissioner, Office of Finance.

[FR Doc. 02-4123 Filed 2-20-02; 8:45 am]

BILLING CODE 4820-02-P